DEPARTMENT OF COMMERCE

International Trade Administration

[A-580-836]

Certain Cut-to-Length Carbon-Quality Steel Plate From the Republic of Korea: Final Results of Antidumping Duty Administrative Review and Rescission of Administrative Review in Part

AGENCY: Import Administration, International Trade Administration, Department of Commerce.

SUMMARY: On September 24, 2009, the Department of Commerce published the preliminary results of the administrative review of the antidumping duty order on certain cut-to-length carbon-quality steel plate from the Republic of Korea and the intent to rescind the administrative review in part. The review covers three manufacturers/exporters. The period of review is February 1, 2008, through January 31, 2009. We have rescinded the review with respect to one company and we have made no changes for the final results of review. The final margins are listed below in the “Final Results of the Review” section of this notice.

DATES: Effective Date: March 5, 2010.

FOR FURTHER INFORMATION CONTACT: Yang Jin Chun or Richard Rimlinger, AD/CVD Operations, Office 5, Import Administration, International Trade Administration, U.S. Department of Commerce, 14th Street and Constitution Avenue, NW., Washington, DC 20230; telephone: (202) 482-5760 or (202) 482-4477, respectively.

SUPPLEMENTARY INFORMATION:

Background

On September 24, 2009, the Department of Commerce (the Department) published the preliminary results of the administrative review of the antidumping duty order on certain cut-to-length carbon-quality steel plate (CTL plate) from the Republic of Korea (Korea) and intent to rescind the administrative review in part. See Certain Cut-to-Length Carbon-Quality Steel Plate From the Republic of Korea: Preliminary Results of Antidumping Duty Administrative Review and Intent To Rescind Administrative Review in Part, 74 FR 48716 (September 24, 2009), as corrected in Certain Cut-to-Length Carbon-Quality Steel Plate from the Republic of Korea: Correction to the Preliminary Results of Antidumping Duty Administrative Review and Intent to Rescind Administrative Review in Part, 74 FR 51834 (October 8, 2009) (collectively Preliminary Results).

We invited interested parties to comment on the Preliminary Results. On October 26, 2009, we received a case brief from Hyosung Corporation (Hyosung). On November 2, 2009, we received a rebuttal brief from Nucor Corporation (Nucor). Because Hyosung's case brief contained untimely filed new factual information and Nucor's rebuttal brief cited the untimely filed new factual information Hyosung included in its case brief, we rejected and returned Hyosung's case brief and Nucor's rebuttal brief on January 6, 2010, and requested that Hyosung and Nucor resubmit their case and rebuttal briefs by January 13, 2010, and January 19, 2010, respectively.

On January 8, 2010, Hyosung submitted its revised case brief. In its January 8, 2010, case brief, Hyosung removed most of the new factual information we had rejected but the brief still contained new factual information. On January 19, 2010, Nucor submitted its revised rebuttal brief. In its revised rebuttal brief, Nucor identified several of Hyosung's statements in the revised case brief as new factual information and requested that the Department reject Hyosung's case brief.

On January 26, 2010, we rejected and returned the revised case and rebuttal briefs for Hyosung and Nucor, respectively, because the case brief contained the new factual information and the rebuttal brief addressed the new factual information. We allowed Hyosung and Nucor to resubmit their revised case and rebuttal briefs which did not include the new factual information by the close of business on January 28, 2010. Hyosung and Nucor resubmitted their revised case and rebuttal briefs, respectively, within the specified due date omitting the new factual information we identified in our January 26, 2010, rejection letters. These resubmitted briefs are the final case and rebuttal briefs Hyosung and Nucor submitted respectively for this administrative review. No other parties submitted either a case brief or a rebuttal brief.

On January 14, 2010, we extended the due date for the final results of this administrative review to February 22, 2010. See Certain Cut-to-Length Carbon-Quality Steel Plate from the Republic of Korea: Extension of the Final Results of Antidumping Duty Administrative Review, 75 FR 2107 (January 14, 2010). As explained in the memorandum from the Deputy Assistant Secretary for Import Administration, we have exercised our discretion to toll deadlines for the duration of the closure of the Federal Government from February 5 through February 12, 2010. Thus, all deadlines in this segment of the proceeding have been extended by seven days. The revised deadline for the final results of this administrative review is now March 1, 2010. See Memorandum to the Record from Ronald Lorentzen, DAS for Import Administration, regarding “Tolling of Administrative Deadlines As a Result of the Government Closure During the Recent Snowstorm,” dated February 12, 2010.

Scope of the Order

The products covered by the antidumping duty order are certain hot-rolled carbon-quality steel: (1) Universal mill plates (i.e., flat-rolled products rolled on four faces or in a closed box pass, of a width exceeding 150 mm but not exceeding 1250 mm, and of a nominal or actual thickness of not less than 4 mm, which are cut-to length (not in coils) and without patterns in relief), of iron or non-alloy quality steel; and (2) flat-rolled products, hot-rolled, of a nominal or actual thickness of 4.75 mm or more and of a width which exceeds 150 mm and measures at least twice the thickness, and which are cut-to-length (not in coils). Steel products included in the scope of the order are of rectangular, square, circular, or other shape and of rectangular or non-rectangular cross section where such non-rectangular cross-section is achieved subsequent to the rolling process (i.e., products which have been “worked after rolling”)—for example, products which have been beveled or rounded at the edges. Steel products that meet the noted physical characteristics that are painted, varnished, or coated with plastic or other non-metallic substances are included within the scope. Also, specifically included in the scope of the order are high strength, low alloy (HSLA) steels. HSLA steels are recognized as steels with micro-alloying levels of elements such as chromium, copper, niobium, titanium, vanadium, and molybdenum. Steel products included in the scope, regardless of Harmonized Tariff Schedule of the United States (HTSUS) definitions, are products in which: (1) Iron predominates, by weight, over each of the other contained elements, (2) the carbon content is two percent or less, by weight, and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of the order unless otherwise specifically excluded. The following products are specifically excluded from the order: (1) Products clad, plated, or coated with metal, whether or not painted, varnished or coated with plastic or other non-metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel.

Imports of steel plate are currently classified in the HTSUS under subheadings 7208.40.30.30, 7208.40.30.60, 7208.51.00.30, 7208.51.00.45, 7208.51.00.60, 7208.52.00.00, 7208.53.00.00, 7208.90.00.00, 7210.70.30.00, 7210.90.90.00, 7211.13.00.00, 7211.14.00.30, 7211.14.00.45, 7211.90.00.00, 7212.40.10.00, 7212.40.50.00, 7212.50.00.00, 7225.40.30.50, 7225.40.70.00, 7225.50.60.00, 7225.99.00.90, 7226.91.50.00, 7226.91.70.00, 7226.91.80.00, and 7226.99.00.00. The HTSUS subheadings are provided for convenience and customs purposes. The written description of the merchandise covered by the order is dispositive.

Rescission of Review in Part

In the Preliminary Results, we preliminarily found that the claim by Daewoo International Corporation (Daewoo) that it made no shipments of subject merchandise during the period of review was consistent with import data provided by U.S. Customs and Border Protection (CBP) and we stated our intent to rescind the administrative review with respect to this company. See Preliminary Results, 74 FR at 48717. We have received no comment concerning our intent to rescind. We continue to find that Daewoo had no shipments of CTL plate from Korea for the final results of this review and we are rescinding the review with respect to Daewoo.

Analysis of the Comments Received

All issues raised in Hyosung's case brief and Nucor's rebuttal brief are addressed in the “Issues and Decision Memorandum” (Decision Memo) from Acting Deputy Assistant Secretary Edward C. Yang to Acting Deputy Assistant Secretary Carole A. Showers dated concurrently with this notice, which is hereby adopted by this notice. A list of the issues which parties have raised and to which we have responded is in the Decision Memo and attached to this notice as an Appendix. The Decision Memo, which is a public document, is on file in the Central Records Unit of the main Department of Commerce building, Room 1117, and is accessible on the Web at http://ia.ita.doc.gov/frn/index.html. The paper copy and electronic version of the Decision Memo are identical in content.

Use of Adverse Facts Available

The Department found in the Preliminary Results that Hyosung, Hyundai Mipo Dockyard Co., Ltd. (Hyundai Mipo), and JeongWoo Industrial Machine Co., Ltd. (JeongWoo), failed to cooperate to the best of their ability in responding to the Department's requests for information and thereby impeded the Department's proceeding. See Preliminary Results, 74 FR at 48717. Therefore, in accordance with section 776(b) of the Tariff Act of 1930, as amended (the Act), and 19 CFR 351.308(c), the Department preliminarily selected 32.70 percent as the adverse facts-available dumping margin. This rate is the rate we assigned as adverse facts available to Tae Chang Steel Co., Ltd., which failed to submit its response to our antidumping questionnaire in the administrative review of this proceeding for the period February 1, 2006, through January 31, 2007. See Certain Cut-to-Length Carbon-Quality Steel Plate Products From the Republic of Korea: Preliminary Results of Antidumping Duty Administrative Review and Intent To Rescind Administrative Review in Part, 72 FR 65701, 65702-03 (November 23, 2007), unchanged in Certain Cut-to-Length Carbon-Quality Steel Plate Products From the Republic of Korea: Final Results of Antidumping Duty Administrative Review and Rescission of Administrative Review in Part, 73 FR 15132, 15133 (March 21, 2008).

The Department received comments regarding its preliminary application of the adverse facts-available dumping margin to Hyosung. The Department did not receive any comments regarding its preliminary application of the adverse facts-available dumping margin to Hyundai Mipo and JeongWoo. For the final results, the Department has not altered its analysis or decision to apply the adverse facts-available dumping margin to Hyosung, Hyundai Mipo, and JeongWoo. See the Decision Memo for the issues parties raised and the Department's positions concerning those issues.

Final Results of the Review

As a result of our review, we determine that the weighted-average dumping margins for CTL plate from Korea for the period February 1, 2008, through January 31, 2009, are as follows:

Company | Margin (percent)
Hyosung | 32.70
Hyundai Mipo | 32.70
JeongWoo | 32.70

Assessment Rates

Pursuant to 19 CFR 351.212(b), the Department will determine, and CBP shall assess, antidumping duties on all appropriate entries. Because we are relying on total adverse facts available to establish the dumping margins for Hyosung, Hyundai Mipo, and JeongWoo, we will instruct CBP to apply a dumping margin of 32.70 percent to CTL plate from Korea that was produced and/or exported by Hyosung, Hyundai Mipo, and JeongWoo and entered, or withdrawn from warehouse, for consumption during the period of review. We will issue appropriate assessment instructions to CBP 15 days after publication of the final results of review.

Cash-Deposit Requirements

The following deposit requirements will be effective upon publication of this notice of final results of administrative review for all shipments of CTL plate from Korea entered, or withdrawn from warehouse, for consumption on or after the date of publication, as provided by section 751(a)(2)(C) of the Act: (1) The cash-deposit rates for Hyosung, Hyundai Mipo, and JeongWoo will be 32.70 percent; (2) for previously reviewed or investigated companies not listed above, the cash-deposit rate will continue to be the company-specific rate published for the most recent period; (3) if the exporter is not a firm covered in this review, a prior review, or the less-than-fair-value investigation but the manufacturer is, the cash-deposit rate will be the rate established for the most recent period for the manufacturer of the merchandise; (4) if neither the exporter nor the manufacturer has its own rate, the cash-deposit rate will be 0.98 percent,¹ the all-others rate established in the less-than-fair-value investigation, adjusted for the export-subsidy rate in the companion countervailing duty investigation. These deposit requirements shall remain in effect until further notice.

¹ See Preliminary Results, 74 FR at 48719.

Notification to Importer

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

Notification Regarding Administrative Protective Order

This notice also serves as a reminder to parties subject to administrative protective order (APO) of their responsibility concerning the disposition of proprietary information disclosed under APO as explained in the APO itself. See 19 CFR 351.305(a)(3). Timely written notification of the destruction of APO materials or conversion to judicial protective order is hereby requested. Failure to comply with the regulations and terms of an APO is a sanctionable violation.

These final results of administrative review are issued and published in accordance with sections 751(a)(1) and 777(i) of the Act and 19 CFR 351.221(b)(5).

Dated: March 1, 2010.
Carole A. Showers,
Acting Deputy Assistant Secretary for Import Administration.

Appendix

List of Issues in the Issues and Decision Memorandum

1. Acceptance of Untimely Response

2. Rescission of Review Based on the CBP Data

3. Alleged New Factual Information

[FR Doc. 2010-4711 Filed 3-4-10; 8:45 am]

BILLING CODE 3510-DS-P